DEPARTMENT OF TRANSPORTATION

Federal Aviation Administration

14 CFR Part 39

[Docket No. 2002-NM-179-AD]

RIN 2120-AA64

Airworthiness Directives; Airbus Model A310 Series Airplanes

AGENCY: Federal Aviation Administration, DOT.

ACTION: Notice of proposed rulemaking (NPRM).

SUMMARY: This document proposes the adoption of a new airworthiness directive (AD) that is applicable to all Airbus Model A310 series airplanes. This proposal would require electrical conductivity testing to verify the correct heat treatment of the two half fittings holding the ejection jack for the ram air turbine (RAT). This action is necessary to prevent decreased structural integrity of the two half fittings and loss of the RAT during extension, which could lead to reduced controllability of the airplane in the event of a dual engine failure, or in the event of loss of two or all hydraulic systems. This action is intended to address the identified unsafe condition.

DATES: Comments must be received by July 18, 2003.

ADDRESSES: Submit comments in triplicate to the Federal Aviation Administration (FAA), Transport Airplane Directorate, ANM-114, Attention: Rules Docket No. 2002-NM-179-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-179-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-179-AD.” The postcard will be date stamped and returned to the commenter.

Availability of NPRMs

Any person may obtain a copy of this NPRM by submitting a request to the FAA, Transport Airplane Directorate, ANM-114, Attention: Rules Docket No. 2002-NM-179-AD, 1601 Lind Avenue, SW., Renton, Washington 98055-4056.

Discussion

The Direction Générale de l'Aviation Civile (DGAC), which is the airworthiness authority for France, notified the FAA that an unsafe condition may exist on all Airbus Model A310 series airplanes. The DGAC advises that an operator reported that the two half fittings holding the ejection jack for the ram air turbine (RAT) were found cracked. Investigation showed that the cracks were due to stress corrosion. Conductivity testing revealed that the heat treatment of the half fittings aluminum alloy was incorrect. Incorrect heat treatment of the half fittings decreased the material behavior against stress corrosion, and was identified as the cause of the cracking. This condition, if not corrected, could result in decreased structural integrity of the half fittings and loss of the RAT during extension, which could lead to reduced controllability of the airplane in the event of a dual engine failure, or in the event of loss of two or all hydraulic systems.

Explanation of Relevant Service Information

Airbus has issued Service Bulletin A310-57A2084, including Appendix 01, dated May 3, 2002, which describes procedures for a one-time electrical conductivity test of the half fittings, to check for the heat treatment status. The service bulletin also describes procedures for a detailed inspection of the half fittings for cracks or corrosion, if necessary. The service bulletin also describes procedures for replacement of the half fittings. Accomplishment of the actions specified in the service bulletin is intended to adequately address the identified unsafe condition. The DGAC classified this service bulletin as mandatory and issued French airworthiness directive 2002-263(B), dated May 15, 2002, in order to ensure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between Proposed Rule, the Foreign Airworthiness Directive, and the Service Bulletin

The proposed AD would differ from the parallel French airworthiness directive in that it would require all replacement half fittings to have successfully passed the electrical conductivity test per Airbus Service Bulletin A310-57A2084, including Appendix 01, dated May 3, 2002. Operators should note that the parallel French airworthiness directive requires that replacement half fittings have a certain part number and should either have been ordered after November 2001, or have successfully passed the electrical conductivity test. The FAA does not consider the “order date” as sufficient assurance that the replacement half fittings have the correct heat treatment.

Operators should also note that, although the service bulletin specifies reporting to Airbus the result of the inspections and any corrective actions, the proposed AD does not include such a requirement.

Cost Impact

The FAA estimates that 48 airplanes of U.S. registry would be affected by this proposed AD, that it would take approximately 1 work hour per airplane to accomplish the proposed actions, and that the average labor rate is $60 per work hour. Based on these figures, the cost impact of the proposed AD on U.S. operators is estimated to be $2,880, or $60 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. Because we have now included this material in part 39, only the office authorized to approve AMOCs is identified in each individual AD.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2002-NM-179-AD.

Applicability: All Model A310 series airplanes, certificated in any category.

Compliance: Required as indicated, unless accomplished previously.

To prevent decreased structural integrity of the two half fittings and loss of the ram air turbine (RAT) during extension, which could lead to reduced controllability of the airplane in the event of a dual engine failure, or in the event of loss of two or all hydraulic systems, accomplish the following:

Service Bulletin References

(a) The following information pertains to the service bulletin referenced in this AD:

(1) The term “service bulletin,” as used in this AD, means the Accomplishment Instructions of Airbus Service Bulletin A310-57A2084, including Appendix 01, dated May 3, 2002.

(2) Although the service bulletin referenced in this AD specifies to submit information to the manufacturer, this AD does not include such a requirement.

Conductivity Test

(b) Within 600 flight hours after the effective date of this AD, perform a one-time electrical conductivity test of the two half fittings holding the RAT ejection jack, to verify correct heat treatment of the half fittings, per the service bulletin.

(1) If correct heat treatment of the two half fittings is verified, no further action is required by this paragraph.

(2) If incorrect heat treatment of any half fitting is found by the test performed in paragraph (b) of this AD, perform a detailed inspection of the two half fittings for any cracking or corrosion, per the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(c) For any half fittings that require a detailed inspection per paragraph (b)(2) of this AD: Do the actions specified in paragraph (c)(1) or (c)(2) of this AD, as applicable, per the service bulletin.

(1) If no cracking or corrosion is found: Within one year after the effective date of this AD, replace the two half fittings with half fittings having part number A5721023800000 that have successfully passed the electrical conductivity test, per the service bulletin.

(2) If any cracking or corrosion is found: Before further flight, replace the two half fittings with half fittings having part number A5721023800000 that have successfully passed the electrical conductivity test, per the service bulletin.

Parts Installation

(d) As of the effective date of this AD, no person shall install a half fitting having part number A5721023800000 that has not successfully passed the electrical conductivity test per the service bulletin, on any airplane.

Alternative Methods of Compliance

(e) In accordance with 14 CFR 39.19, the Manager, ANM-116, FAA, is authorized to approve alternative methods of compliance for this AD.

Note 2: The subject of this AD is addressed in French airworthiness directive 2002-263(B), dated May 15, 2002.

Issued in Renton, Washington, on June 12, 2003.
Kalene C. Yanamura,
Acting Manager, Transport Airplane Directorate, Aircraft Certification Service.

[FR Doc. 03-15335 Filed 6-17-03; 8:45 am]

BILLING CODE 4910-13-P